INTERNATIONAL TRADE COMMISSION

[Investigation No. 337-TA-1381]

Certain Disposable Vaporizer Devices and Components and Packaging Thereof; Notice of a Commission Determination Not To Review Initial Determination Amending the Complaint and Notice of Investigation

AGENCY: U.S. International Trade Commission.

ACTION: Notice.

SUMMARY: Notice is hereby given that the U.S. International Trade Commission has determined not to review an initial determination (Order No. 19) issued by the chief administrative law judge (“CALJ”) granting a motion to amend the complaint and notice of investigation (“NOI”) to correct the mailing address associated with respondents Flawless Vape Shop Inc. and Flawless Vape Wholesale & Distribution Inc., both of Anaheim, CA (“the Flawless Respondents”).

FOR FURTHER INFORMATION CONTACT: Paul Lall, Office of the General Counsel, U.S. International Trade Commission, 500 E Street SW, Washington, DC 20436, telephone (202) 205-2043. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal, telephone (202) 205-1810.

SUPPLEMENTARY INFORMATION: On December 20, 2023, the Commission instituted this investigation based on a complaint filed on behalf of complainants R.J. Reynolds Tobacco Company and R.J. Reynolds Vapor Company (collectively, “Complainants”). 88 FR 88111-12 (Dec. 20, 2023). The complaint alleges violations of section 337 of the Tariff Act of 1930, as amended, 19 U.S.C. 1337, based upon the importation into the United States, and the sale of certain disposable vaporizer devices and components and packaging thereof by reason false advertising, false designation of origin, and unfair competition, the threat or effect of which is to destroy or substantially injure an industry in the United States. The Commission's NOI named the following twenty-five (25) respondents: the Flawless Respondents; Shenzhen Noriyang of Shenzhen, China; Affiliated Imports, LLC of Pflugerville, TX; American Vape Company, LLC a/k/a American Vapor Company, LLC of Pflugerville, TX; Breeze Smoke, LLC of West Bloomfield, MI; Dongguan (Shenzhen) Shikai Technology Co., Ltd. of Guangdong, China; EVO Brands, LLC of Wilmington, DE; Guangdong Qisitech Co., Ltd. of Dongguan City, China; iMiracle (Shenzhen) Technology Co. Ltd. of Shenzhen, China; Magellan Technology Inc. of Buffalo, NY; Pastel Cartel, LLC of Pflugerville, TX; Price Point Distributors Inc. d/b/a Prince Point NY of Farmingdale, NY; PVG2, LLC of Wilmington, DE; Shenzhen Daosen Vaping Technology Co., Ltd. of Shenzhen, China; Shenzhen Fumot Technology Co., Ltd. of Shenzhen, China; Shenzhen Funyin Electronic Co., Ltd. of Guangdong, China; Shenzhen Han Technology Co., Ltd. of Shenzhen, China; Shenzhen Innokin Technology Co., Ltd., of Shenzhen, China; Shenzhen IVPS Technology Co., Ltd. of Shenzhen, China; Shenzhen Weiboli Technology Co. Ltd. of Shenzhen, China; SV3 LLC d/b/a Mi-One Brands of Phoenix, AZ; Thesy, LLC d/b/a Element Vape of El Monte, CA; Vapeonly Technology Co. Ltd. of Shenzhen, China; and VICA of Tustin, CA. Id. The Office of Unfair Import Investigations (“OUII”) was also named as a party in this investigation. Id.

On February 16, 2024, Complainants filed an unopposed motion to amend the complaint and NOI to correct the mailing address associated with the Flawless Respondents. On February 29, 2024, OUII filed a response supporting the motion.

On April 18, 2024, the CALJ issued the subject ID (Order No. 19) pursuant to Commission Rule 210.14(b) (19 CFR 210.14(b)), granting Complainants' motion to amend the complaint and NOI as requested. The ID finds that Complainants have established good cause for the proposed amendment, and that the amendment “will not prejudice the public interest or the rights of any parties to the investigation.” ID at 2.

No party filed a petition for review of the subject ID.

The Commission has determined not to review the subject ID (Order No. 19).

The Commission vote for this determination took place on Issued: May 13, 2024.

The authority for the Commission's determination is contained in section 337 of the Tariff Act of 1930, as amended (19 U.S.C. 1337), and in part 210 of the Commission's Rules of Practice and Procedure (19 CFR part 210).

By order of the Commission.
Issued: May 13, 2024.
Lisa Barton,
Secretary to the Commission.

[FR Doc. 2024-10837 Filed 5-16-24; 8:45 am]

BILLING CODE 7020-02-P